DEPARTMENT OF ENERGY

Federal Energy Regulatory Commission

[Docket No. ER01-2756-000, et al.]

Camden Cogen, L.P., et al.; Electric Rate and Corporate Regulation Filings

August 7, 2001.

Take notice that the following filings have been made with the Commission:

1. Camden Cogen, L.P.

[Docket No. ER01-2756-000]

Take notice that on August 1, 2001, Camden Cogen, L.P. (Camden), filed with the Federal Energy Regulatory Commission an application for approval of its initial rate schedule (FERC Electric Tariff Original Volume No. 1), and for blanket approval for market-based rates pursuant to Part 35 of the Commission's regulations.

Camden is a joint venture that owns and operates a 152-MW generating plant located in Camden, New Jersey.

Comment date: August 22, 2001, in accordance with Standard Paragraph E at the end of this notice.

2. Sierra Pacific Power Company, Nevada Power Company

[Docket No. ER01-2757-000]

Take notice that on August 1, 2001, Nevada Power Company (Nevada Power) tendered for filing Service Agreements No. 98 and 99 to the Sierra Pacific Resources Operating Companies FERC Electric Tariff, First Revised Volume No. 1, which is Nevada Power's Open Access Transmission Tariff. These Service Agreements are executed Transmission Service Agreements (TSAs) between Nevada Power and Mirant Americas Development, Inc., as General Partner of Mirant Americas Energy Marketing, LP. Nevada Power requests that these TSAs be made effective as of July 1, 2001.

Comment date: August 22, 2001, in accordance with Standard Paragraph E at the end of this notice.

3. Sierra Pacific Power Company, Nevada Power Company

[Docket No. ER01-2758-000]

Take notice that on August 1, 2001, Nevada Power Company (Nevada Power) tendered for filing Service Agreements No. 95 and 96 to the Sierra Pacific Resources Operating Companies FERC Electric Tariff, First Revised Volume No. 1, which is Nevada Power's Open Access Transmission Tariff. These Service Agreements are unexecuted Transmission Service Agreements (TSAs) between Nevada Power and Calpine Corporation. Nevada Power requests that these TSAs be made effective as of July 1, 2001.

Comment date: August 22, 2001, in accordance with Standard Paragraph E at the end of this notice.

4. Sierra Pacific Power Company, Nevada Power Company

[Docket No. ER01-2759-000]

Take notice that on August 1, 2001, Nevada Power Company (Nevada Power) tendered for filing Service Agreement No. 97 to the Sierra Pacific Resources Operating Companies FERC Electric Tariff, First Revised Volume No. 1, which is Nevada Power's Open Access Transmission Tariff. This Service Agreement is an unexecuted Transmission Service Agreement (TSA) between Nevada Power and Duke Energy Trading and Marketing. Nevada Power requests that this TSA be made effective as of July 1, 2001.

Comment date: August 22, 2001, in accordance with Standard Paragraph E at the end of this notice.

5. Handsome Lake Energy, LLC

[Docket No. ER01-2761-000]

Take notice that on August 1, 2001, Handsome Lake Energy, LLC (Handsome Lake) tendered for filing with the Federal Energy Regulatory Commission an executed service agreement with Constellation Power Source, Inc. (Constellation). The agreement is an umbrella agreement which allows Constellation to take service under Handsome Lake's FERC Electric Tariff, Original Volume No. 1. Handsome Lake respectfully requests an effective date of July 2, 2001.

Comment date: August 22, 2001, in accordance with Standard Paragraph E at the end of this notice.

6. American Transmission Company LLC

[Docket No. ER01-2762-000]

Take notice that on August 1, 2001, American Transmission Company LLC (ATCLLC) tendered for filing its Second Revised Procedures for Implementing Standards of Conduct and Second Revised Standards of Conduct. ATCLLC requests an effective date of August 1, 2001.

Comment date: August 22, 2001, in accordance with Standard Paragraph E at the end of this notice.

7. Elwood Energy LLC, Elwood Energy II, LLC, Elwood Energy III, LLP, Elwood Energy LLC

[Docket No. ER01-2763-000]

On August 1, 2001, Elwood Energy LLC (Elwood), Elwood Energy II, LLC (Elwood II) and Elwood Energy III, LLC (Elwood III) filed with the Federal Energy Regulatory Commission Notices of Succession, Notice of Change in Status and amendment to Elwood's market-based rate tariff and two service agreements with Aquila Energy Marketing Corporation and Utilicorp United Inc., under Elwoods's market-based rate tariff that previously has been submitted under the market-based rate tariffs of Elwood II and Elwood III. These filings were made to reflect the mergers of Elwood II and Elwood III with and into Elwood, with Elwood as the sole surviving entity, together with related mergers among certain upstream owners of those entities.

Comment date: August 22, 2001, in accordance with Standard Paragraph E at the end of this notice.

8. Cinergy Services, Inc.

[Docket No. ER-2764-000]

Take notice that Cinergy Services, Inc. (Cinergy) and Strategic Energy L.L.C. (Strategic), on August 1, 2001, are submitting a Confirmation Letter of Cinergy's Market-Based Power Sales Tariff Original Volume No. 7-MB, Service Agreement No. 211, dated May 1, 1999.

Cinergy and Strategic are requesting an effective date of July 18, 2001.

Comment date: August 22, 2001, in accordance with Standard Paragraph E at the end of this notice.

9. Cedar Brakes II, L.L.C.

[Docket No. ER01-2765-000]

Take notice that on August 1, 2001, Cedar Brakes II, L.L.C. (CBII), filed with the Federal Energy Regulatory Commission an amended Power Purchase Agreement with Public Service Electric & Gas, an application for approval of its initial rate schedule (FERC Electric Tariff Original Volume No. 1), and for blanket approval for market-based rates pursuant to Part 35 of the Commission's regulations.

CBII is a limited liability company formed under the laws of Delaware. CBII does not own any generating facilities.

Comment date: August 22, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20324 Filed 8-13-01; 8:45 am]

BILLING CODE 6717-01-P